DEPARTMENT OF ENERGY

Federal Energy Regulatory Commission

Combined Notice of Filings #1

Take notice that the Commission received the following electric corporate filings:

Docket Numbers: EC21-14-000.

Applicants: TCT Generation Holdings, LLC, Global Energy & Power Infrastructure Fun.

Description: Amendment to October 27, 2020 Application for Authorization Under Section 203 of the Federal Power Act, et al. of TCT Generation Holdings, LLC, et al.

Filed Date: 11/3/20.

Accession Number: 20201103-5174.

Comments Due: 5 p.m. ET 11/17/20.

Docket Numbers: EC21-18-000.

Applicants: Sun Streams 4, LLC.

Description: Application for Authorization Under Section 203 of the Federal Power Act of Sun Streams 4, LLC.

Filed Date: 11/3/20.

Accession Number: 20201103-5155.

Comments Due: 5 p.m. ET 11/24/20.

Docket Numbers: EC21-19-000.

Applicants: Sun Streams Expansion, LLC.

Description: Application for Authorization Under Section 203 of the Federal Power Act of Sun Streams Expansion, LLC.

Filed Date: 11/3/20.

Accession Number: 20201103-5157.

Comments Due: 5 p.m. ET 11/24/20.

Docket Numbers: EC21-20-000.

Applicants: Cleveland-Cliffs Inc., AK Electric Supply LLC.

Description: Application for Authorization Under Section 203 of the Federal Power Act, et al. of Cleveland-Cliffs Inc., et al.

Filed Date: 11/4/20.

Accession Number: 20201104-5137.

Comments Due: 5 p.m. ET 11/25/20.

Take notice that the Commission received the following exempt wholesale generator filings:

Docket Numbers: EG95-6-000.

Applicants: Dartmouth Power Associates L.P.

Description: Notice of Self-Recertification of Exempt Wholesale Generator Status of Dartmouth Power Associates Limited Partnership.

Filed Date: 10/8/20.

Accession Number: 20201008-5042.

Comments Due: 5 p.m. ET 11/9/20.

Docket Numbers: EG00-39-000.

Applicants: PPL Brunner Island, LLC.

Description: Notice of Self-Recertification of Exempt Wholesale Generator Status of Brunner Island, LLC.

Filed Date: 10/26/20.

Accession Number: 20201026-5060.

Comments Due: 5 p.m. ET 11/9/20.

Docket Numbers: EG21-26-000.

Applicants: Pacific Crest Power, LLC.

Description: Notice of Self-Certification of Exempt Wholesale Generator Status of Pacific Crest Power, LLC.

Filed Date: 11/5/20.

Accession Number: 20201105-5106.

Comments Due: 5 p.m. ET 11/27/20.

Docket Numbers: EG21-27-000.

Applicants: Ridgetop Energy, LLC.

Description: Notice of Self-Certification of Exempt Wholesale Generator Status of Ridgetop Energy, LLC.

Filed Date: 11/5/20.

Accession Number: 20201105-5109.

Comments Due: 5 p.m. ET 11/27/20.

Docket Numbers: EG21-28-000.

Applicants: San Gorgonio Westwinds II, LLC.

Description: Notice of Self-Certification of Exempt Wholesale Generator Status of San Gorgonio Westwinds II, LLC.

Filed Date: 11/5/20.

Accession Number: 20201105-5112.

Comments Due: 5 p.m. ET 11/27/20.

Docket Numbers: EG21-29-000.

Applicants: San Gorgonio Westwinds II—Windustries, LLC.

Description: Notice of Self-Certification of Exempt Wholesale Generator Status of San Gorgonio Westwinds II—Windustries, LLC.

Filed Date: 11/5/20.

Accession Number: 20201105-5115.

Comments Due: 5 p.m. ET 11/27/20.

Docket Numbers: EG21-30-000.

Applicants: Terra-Gen Mojave Windfarms, LLC.

Description: Notice of Self-Certification of Exempt Wholesale Generator Status of Terra-Gen Mojave Windfarms, LLC.

Filed Date: 11/5/20.

Accession Number: 20201105-5119.

Comments Due: 5 p.m. ET 11/27/20.

Docket Numbers: EG21-31-000.

Applicants: Terra-Gen VG Wind, LLC.

Description: Notice of Self-Certification of Exempt Wholesale Generator Status of Terra-Gen VG Wind, LLC.

Filed Date: 11/5/20.

Accession Number: 20201105-5129.

Comments Due: 5 p.m. ET 11/27/20.

Docket Numbers: EG21-32-000.

Applicants: Texas Big Spring, LLC.

Description: Notice of Self-Certification of Exempt Wholesale Generator Status of Texas Big Spring, LLC.

Filed Date: 11/5/20.

Accession Number: 20201105-5131.

Comments Due: 5 p.m. ET 11/27/20.

Docket Numbers: EG21-33-000.

Applicants: Yavi Energy, LLC.

Description: Notice of Self-Certification of Exempt Wholesale Generator Status of Yavi Energy, LLC.

Filed Date: 11/5/20.

Accession Number: 20201105-5136.

Comments Due: 5 p.m. ET 11/27/20.

Docket Numbers: EG21-34-000.

Applicants: Hecate Energy Ramsey LLC.

Description: Notice of Self-Certification of Exempt Wholesale Generator Status of Hecate Energy Ramsey LLC.

Filed Date: 11/6/20.

Accession Number: 20201106-5123.

Comments Due: 5 p.m. ET 11/27/20.

Take notice that the Commission received the following electric rate filings:

Docket Numbers: ER10-2906-016; ER10-2908-016; ER11-4393-010; ER11-4669-008; ER11-4670-008; ER12-709-007; ER19-1716-004.

Applicants: Morgan Stanley Capital Group Inc., MS Solar Solutions Corp., Morgan Stanley Energy Structuring, L.L.C, TAQA Gen X LLC, NaturEner Montana Wind Energy, LLC, NaturEner Power Watch, LLC, NaturEner Wind Watch, LLC.

Description: Notice of Non-Material Change in Status of the MS Public Utilities and NaturEner Public Utilities.

Filed Date: 10/30/20.

Accession Number: 20201030-5470.

Comments Due: 5 p.m. ET 11/20/20.

Docket Numbers: ER19-13-005.

Applicants: Pacific Gas and Electric Company.

Description: Compliance filing: TO20 Motion for Interim Rates Compliance Filing to be effective 1/1/2021.

Filed Date: 11/5/20.

Accession Number: 20201105-5098.

Comments Due: 5 p.m. ET 11/27/20.

Docket Numbers: ER19-2828-004.

Applicants: American Electric Power Service Corporation, Ohio Power Company, AEP Ohio Transmission Company, Inc., PJM Interconnection, L.L.C.

Description: Compliance filing: AEP submits Compliance Filing in ER19-2828 to be effective 9/1/2019.

Filed Date: 11/6/20.

Accession Number: 20201106-5113.

Comments Due: 5 p.m. ET 11/27/20.

Docket Numbers: ER20-289-002.

Applicants: Ohio Power Company, AEP Ohio Transmission Company, Inc., American Electric Power Service Corporation, PJM Interconnection, L.L.C.

Description: Compliance filing: AESPC submits Compliance Filing in ER20-289 to be effective 12/31/2019.

Filed Date: 11/6/20.

Accession Number: 20201106-5128.

Comments Due: 5 p.m. ET 11/27/20.

Docket Numbers: ER20-609-002.

Applicants: Ohio Power Company, American Electric Power Service Corporation, AEP Ohio Transmission Company, Inc., PJM Interconnection, L.L.C.

Description: Compliance filing: AEP submits Compliance Filing in ER20-609 to be effective 2/14/2020.

Filed Date: 11/6/20.

Accession Number: 20201106-5120.

Comments Due: 5 p.m. ET 11/27/20.

Docket Numbers: ER20-2158-002.

Applicants: Midcontinent Independent System Operator, Inc, Ameren Illinois Company.

Description: Tariff Amendment: 2020-11-06_SA 3527 Amended Deficiency Ameren Illinois-Hoopeston Wind (H094) FSA to be effective 8/25/2020.

Filed Date: 11/6/20.

Accession Number: 20201106-5088.

Comments Due: 5 p.m. ET 11/27/20.

Docket Numbers: ER20-2370-001.

Applicants: Basin Electric Power Cooperative.

Description: Compliance filing: Submission of Second Order No. 845 Compliance Filing to be effective 9/9/2020.

Filed Date: 11/6/20.

Accession Number: 20201106-5063.

Comments Due: 5 p.m. ET 11/27/20.

Docket Numbers: ER20-2845-001.

Applicants: Albemarle Beach Solar, LLC.

Description: Tariff Amendment: Response to Letter for Additional Information Under Docket ER20-2845-000 to be effective 11/9/2020.

Filed Date: 11/6/20.

Accession Number: 20201106-5116.

Comments Due: 5 p.m. ET 11/27/20.

Docket Numbers: ER20-2846-001.

Applicants: Mechanicsville Lessee, LLC.

Description: Tariff Amendment: Response to Request for Additional Information Under Docket ER20-2846-000 to be effective 9/10/2020.

Filed Date: 11/6/20.

Accession Number: 20201106-5119.

Comments Due: 5 p.m. ET 11/27/20.

Docket Numbers: ER20-2847-001.

Applicants: AB Lessee, LLC.

Description: Tariff Amendment: Response to Letter for Additional Information Under Docket ER20-2847 to be effective 11/9/2020.

Filed Date: 11/6/20.

Accession Number: 20201106-5115.

Comments Due: 5 p.m. ET 11/27/20.

Docket Numbers: ER20-2874-001.

Applicants: Horizon West Transmission, LLC.

Description: Compliance filing: Horizon west Transmission, LLC Amendment Filing to be effective 9/15/2020.

Filed Date: 11/5/20.

Accession Number: 20201105-5054.

Comments Due: 5 p.m. ET 11/27/20.

Docket Numbers: ER20-2881-001.

Applicants: Harts Mill Solar, LLC.

Description: Tariff Amendment: Response to Deficiency Letter in Docket ER20-2881-000 to be effective 11/14/2020.

Filed Date: 11/6/20.

Accession Number: 20201106-5099.

Comments Due: 5 p.m. ET 11/27/20.

Docket Numbers: ER20-2978-000.

Applicants: Catalyst Power REPCo LLC.

Description: Supplement to Catalyst Power REPCo LLC tariff filing.

Filed Date: 11/5/20.

Accession Number: 20201105-5167.

Comments Due: 5 p.m. ET 11/27/20.

Docket Numbers: ER20-2979-000.

Applicants: Catalyst Power & Gas LLC.

Description: Supplement to Catalyst Power & Gas LLC tariff filing.

Filed Date: 11/5/20.

Accession Number: 20201105-5168.

Comments Due: 5 p.m. ET 11/27/20.

Docket Numbers: ER21-329-000.

Applicants: Southern California Edison Company.

Description: § 205(d) Rate Filing: DSA Acorn I Energy Storage, LLC—Acorn I Energy Storage & Cancel Letter Agmt to be effective 11/15/2020.

Filed Date: 11/6/20.

Accession Number: 20201106-5061.

Comments Due: 5 p.m. ET 11/27/20.

Docket Numbers: ER21-330-000.

Applicants: Specialty Products US, LLC.

Description: Baseline eTariff Filing: Application for MBR Authority to be effective 1/4/2021.

Filed Date: 11/6/20.

Accession Number: 20201106-5065.

Comments Due: 5 p.m. ET 11/27/20.

Docket Numbers: ER21-331-000.

Applicants: DDP Specialty Electronic Materials US, Inc.

Description: Baseline eTariff Filing: Application for MBR Authority to be effective 1/4/2021.

Filed Date: 11/6/20.

Accession Number: 20201106-5066.

Comments Due: 5 p.m. ET 11/27/20.

Docket Numbers: ER21-332-000.

Applicants: Coachella Wind, LLC.

Description: Tariff Cancellation: Notice of Cancellation to be effective 12/31/9998.

Filed Date: 11/6/20.

Accession Number: 20201106-5073.

Comments Due: 5 p.m. ET 11/27/20.

Docket Numbers: ER21-333-000.

Applicants: Desert Hot Springs, LLC.

Description: Tariff Cancellation: Notice of Cancellation to be effective 11/7/2020.

Filed Date: 11/6/20.

Accession Number: 20201106-5075.

Comments Due: 5 p.m. ET 11/27/20.

Docket Numbers: ER21-334-000.

Applicants: DifWind Farms Limited I.

Description: Tariff Cancellation: Notice of Cancellation to be effective 11/7/2020.

Filed Date: 11/6/20.

Accession Number: 20201106-5076.

Comments Due: 5 p.m. ET 11/27/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 6, 2020.
Nathaniel J. Davis, Sr.,
Deputy Secretary.

[FR Doc. 2020-25109 Filed 11-12-20; 8:45 am]

BILLING CODE 6717-01-P